DEPARTMENT OF TRANSPORTATION

Federal Aviation Administration

14 CFR Part 39

[Docket No. 2002-SW-22-AD; Amendment 39-12835; AD 2002-08-54]

RIN 2120-AA64

Airworthiness Directives; Bell Helicopter Textron Canada Model 222, 222B, 222U, and 230 Helicopters

AGENCY: Federal Aviation Administration, DOT.

ACTION: Final rule; request for comments.

SUMMARY: This document publishes in the Federal Register an amendment adopting Emergency Airworthiness Directive (EAD) 2002-08-54, which was sent previously to all known U.S. owners and operators of the specified Bell Helicopter Textron Canada (BHTC) model helicopters by individual letters. This AD requires a visual check of each main rotor grip assembly (grip) and pitch horn at specified intervals and a visual inspection using a 10-power or higher magnifying glass of each affected grip and pitch horn for a crack at specified intervals. If a crack is found, this AD requires replacing each unairworthy grip or pitch horn with an airworthy part before further flight. This AD is prompted by three reports each of a fatigue crack in the grip and pitch horn found during routine inspection of the rotor head. This condition, if not detected, could result in failure of the grip or pitch horn and subsequent loss of control of the helicopter.

DATES: Effective August 21, 2002, to all persons except those persons to whom it was made immediately effective by Emergency AD 2002-08-54, issued on May 2, 2002, which contained the requirements of this amendment.

The incorporation by reference of certain publications listed in the regulations is approved by the Director of the Federal Register as of August 21, 2002.

Comments for inclusion in the Rules Docket must be received on or before October 7, 2002.

ADDRESSES: Submit comments in triplicate to the Federal Aviation Administration (FAA), Office of the Regional Counsel, Southwest Region, Attention: Rules Docket No. 2002-SW-22-AD, 2601 Meacham Blvd., Room 663, Fort Worth, Texas 76137. You may also send comments electronically to the Rules Docket at the following address: 9-asw-adcomments@faa.gov.

The applicable service information may be obtained from Bell Helicopter Textron Canada, 12,800 Rue de l'Avenir, Mirabel, Quebec J7J1R4, telephone (450) 437-2862 or (800) 363-8023, fax (450) 433-0272. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Charles Harrison, Aviation Safety Engineer, FAA, Rotorcraft Directorate, Rotorcraft Standards Staff, Fort Worth, Texas 76193-0110, telephone (817) 222-5128, fax (817) 222-5961.

SUPPLEMENTARY INFORMATION: On May 2, 2002, the FAA issued EAD 2002-08-54, for the specified BHTC model helicopters, which requires visually checking and subsequently inspecting each affected grip and pitch horn for a crack at specified intervals. If a crack is found, the EAD requires replacing each unairworthy grip or pitch horn with an airworthy part before further flight. That action was prompted by three reports each of a fatigue crack in the grip and pitch horn found during routine inspection of the rotor head. When EAD 2002-08-54 was mailed to all known U.S. owners and operators of the specified model helicopters, two hidden text boxes were inadvertently shown in Figure 2. However, a correction to EAD 2002-08-54 was mailed on May 6, 2002, which removed the text boxes labeled “Inspection Area” and “Grip Assembly” from Figure 2.

The FAA has reviewed Bell Helicopter Textron Canada (BHTC) Alert Service Bulletin Nos. 222U-02-64, 222-02-93, and 230-02-26, all dated April 1, 2002, which describe procedures for checking and inspecting each grip and pitch horn with more than 1250 hours time-in-service since new for a crack.

Transport Canada, the airworthiness authority for Canada, notified the FAA that an unsafe condition may exist on these helicopter models. Transport Canada advises of the need for repeated daily checks and visual inspections at specified intervals of the grip and pitch horn for a crack until the cause of the premature failures is determined. Transport Canada classified these alert service bulletins as mandatory and issued AD No. CF-2002-23, dated April 2, 2002, to ensure the continued airworthiness of these helicopters.

These helicopter models are manufactured in Canada and are type certificated for operation in the United States under the provisions of 14 CFR 21.29 and the applicable bilateral agreement. Pursuant to the applicable bilateral agreement, Transport Canada has kept the FAA informed of the situation described above. The FAA has examined the findings of Transport Canada, reviewed all available information, and determined that AD action is necessary for products of these type designs that are certificated for operation in the United States.

This unsafe condition is likely to exist or develop on other helicopters of the same type designs. Therefore, the FAA issued EAD 2002-08-54 to prevent failure of the grip or pitch horn and subsequent loss of control of the helicopter. The AD requires, before further flight, and at specified intervals, visually checking each affected grip and pitch horn for a crack. The AD also requires using a 10-power or higher magnifying glass to visually inspect each affected grip and pitch horn for a crack at specified intervals. If a crack is found, this AD requires replacing each unairworthy grip or pitch horn with an airworthy part before further flight. The actions must be accomplished in accordance with the alert service bulletins described previously. The short compliance time involved is required because the previously described critical unsafe condition can adversely affect the controllability and structural integrity of the helicopter. Therefore, visually checking each affected grip and pitch horn for a crack and replacing any unairworthy part are required before further flight, and this AD must be issued immediately.

An owner/operator (pilot) may perform the visual check required by this AD. The pilot must enter compliance with paragraph (a) of this AD into the helicopter maintenance records in accordance with 14 CFR 43.11 and 91.417(a)(2)(v)). A pilot may perform this check because it involves only a visual check for a crack in the grip or pitch horn and can be performed equally well by a pilot or a mechanic.

Since it was found that immediate corrective action was required, notice and opportunity for prior public comment thereon were impracticable and contrary to the public interest, and good cause existed to make the AD effective immediately by individual letters issued on May 2, 2002, to all known U.S. owners and operators of BHTC Model 222, 222B, 222U, and 230 helicopters. These conditions still exist, and the AD is hereby published in the Federal Register as an amendment to 14 CFR 39.13 to make it effective to all persons. A minor editorial correction is made to add a colon at the end of paragraph (a)(3) of this AD. This change neither increases the economic burden on any operator nor increases the scope of the AD.

The FAA estimates that 107 helicopters of U.S. registry will be affected by this AD, that it will take approximately 20.5 work hours per helicopter per year to accomplish the required actions, and that the average labor rate is $60 per work hour. Required parts will cost approximately $51,735 for one configuration and $22,504 for the other configuration if a crack is found. Based on these figures, the total cost impact of the AD on U.S. operators is estimated to be $131,610 assuming no cracked parts are found.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES.All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2002-SW-22-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-08-54 Bell Helicopter Textron Canada: Amendment 39-12835, Docket No. 2002-SW-22-AD.

Applicability: The following model helicopters with the listed part number (P/N) installed, certificated in any category:

Model | With hub assembly P/N | With grip assembly P/N | With pitch horn assembly P/N
(1) 222 or 222B | 222-011-101-103, −105, −107, or −109 222-012-101-103, or −107 | 222-010-104-105 222-012-104-101 | 222-011-104-101 222-012-102-101
(2) 222U | 222-011-101-105, −107, or −109 222-012-101-103, OR −107 | 222-010-104-105 222-012-104-101 | 222-011-104-101 222-012-102-101
(3) | 222-012-101-105, or −109 | 222-012-104-101 | 222-012-102-101

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and if the unsafe condition has not been eliminated, the request should include specific proposed actions to address it.

Compliance: Required as indicated, unless accomplished previously.

To prevent failure of the grip or pitch horn and subsequent loss of control of the helicopter, if either the grip or pitch horn has accumulated 1250 or more hours time-in-service (TIS) since initial installation on any helicopter, accomplish the following:

(a) Before further flight and thereafter at intervals not to exceed 8 hours TIS:

(1) Wipe clean the main rotor grip and pitch horn surfaces to remove grease and dirt in the check area as shown in Figure 1 of this AD:

BILLING CODE 4910-13-P

(2) Visually check both main rotor grips for a crack, paying particular attention to the inboard and outboard tangs/portions of the grip, which are in direct contact with the pitch horns and the main rotor blades. Check the area to at least 3 inches beyond the grip/pitch and grip/blade contact areas as shown in Figure 2 of this AD:

(3) Visually check all visible portions of each pitch horn for a crack. Pay particular attention to the attachment lugs of the pitch horns, which are in direct contact with the inboard tangs of the main rotor grips, as shown in Figure 3 of this AD, and the four large bolt cutouts, as shown in Figure 4 of this AD:

(4) An owner/operator (pilot) may perform the visual check required by this AD. The pilot must enter compliance with paragraph (a) of this AD into the helicopter maintenance records in accordance with 14 CFR 43.11 and 91.417(a)(2)(v)). A pilot may perform this check because it involves only a visual check for a crack in the grip or pitch horn and can be performed equally well by a pilot or a mechanic.

(b) Within 7 days or 10 hours TIS, whichever occurs first, and thereafter at intervals not to exceed 25 hours TIS, using a 10-power or higher magnifying glass, visually inspect each grip and pitch horn for a crack in accordance with the Accomplishment Instructions, Part II, paragraphs 1 and 2, of Bell Helicopter Textron Alert Service Bulletin Nos. 222U-02-64, 222-02-93, and 230-02-26, all dated April 1, 2002, as applicable.

(c) If a crack is found, replace the unairworthy grip or pitch horn with an airworthy part before further flight.

(d) An alternative method of compliance or adjustment of the compliance time that provides an acceptable level of safety may be used if approved by the Manager, Regulations Group, FAA. Operators shall submit their requests through an FAA Principal Maintenance Inspector, who may concur or comment and then send it to the Manager, Regulations Group.

Note 2: Information concerning the existence of approved alternative methods of compliance with this AD, if any, may be obtained from the Regulations Group.

(e) Special flight permits may be issued in accordance with 14 CFR 21.197 and 21.199 to operate the helicopter to a location where the inspection requirements of paragraph (b) of this AD can be accomplished.

(f) The inspection shall be done in accordance with the Accomplishment Instructions, Part II, paragraphs 1 and 2, of Bell Helicopter Textron Alert Service Bulletin Nos. 222U-02-64, 222-02-93, and 230-02-26, all dated April 1, 2002, as applicable. This incorporation by reference was approved by the Director of the Federal Register in accordance with 5 U.S.C. 552(a) and 1 CFR part 51. Copies may be obtained from Bell Helicopter Textron Canada, 12,800 Rue de l'Avenir, Mirabel, Quebec J7J1R4, telephone (450) 437-2862 or (800) 363-8023, fax (450) 433-0272. Copies may be inspected at the FAA, Office of the Regional Counsel, Southwest Region, 2601 Meacham Blvd., Room 663, Fort Worth, Texas; or at the Office of the Federal Register, 800 North Capitol Street, NE., suite 700, Washington, DC.

(g) This amendment becomes effective on August 21, 2002, to all persons except those persons to whom it was made immediately effective by Emergency AD 2002-08-54, issued May 2, 2002, which contained the requirements of this amendment.

Note 3: The subject of this AD is addressed in Transport Canada (Canada) AD CF-2002-23, dated April 2, 2002.

Issued in Fort Worth, Texas, on July 25, 2002.
Eric Bries,
Acting Manager, Rotorcraft Directorate, Aircraft Certification Service.

[FR Doc. 02-19486 Filed 8-5-02; 8:45 am]

BILLING CODE 4910-13-P